COMMISSION ON CIVIL RIGHTS

Sunshine Act Meeting

AGENCY: Commission on Civil Rights.

DATE AND TIME: Friday, March 10, 2006, 9:30 a.m. Commission Meeting.

PLACE: U.S. Commission on Civil Rights, 624 Ninth Street, NW., Room 540, Washington, DC 20425.

STATUS:

Agenda

I. Approval of Agenda

II. Approval of Minutes of February 17, 2006 Meeting

III. Announcements

IV. Staff Director's Report

V. Management and Operations

• February 15, 2006—Letter to Senate Subcommittee on the Constitution

• February 15, 2006—Corrective Action Plan

VI. Program Planning

• Voting Rights Act Statutory Report

• Anti-Semitism Findings and Recommendations

• Minorities in State Foster Care and Adoption

• Annual Program Planning

VII. Strategic Planning

• Working Group on Strategic Planning

VIII. Future Agenda Items

FOR FURTHER INFORMATION CONTACT: Audrey Wright, Office of the Staff Director (202) 376-7700.

Kenneth L. Marcus,
Staff Director, Acting General Counsel.

[FR Doc. 06-2031 Filed 2-28-06; 3:27 pm]

BILLING CODE 6335-01-M